DEPARTMENT OF TRANSPORTATION

Federal Highway Administration

Supplemental Draft Environmental Impact Statement (SDEIS) for Northwest I-75/I-575 Corridor, Cobb and Cherokee Counties, GA (Atlanta Metropolitan Area)

AGENCY: Federal Highway Administration (FHWA), DOT.

ACTION: Notice of availability.

SUMMARY: In compliance with the National Environmental Policy Act of 1969, as amended, the FHWA, in cooperation with the Georgia Department of Transportation (GDOT), have jointly prepared a Supplemental Draft Environmental Impact Statement (SDEIS) for proposed transportation improvements in the I-75 and I-575 corridors. The proposed project is located in Cobb and Cherokee Counties, Georgia. The SDEIS identifies build and no-build alternatives and associated environmental impacts. Interested citizens are invited to review the SDEIS and submit comments. Copies of the SDEIS may be obtained by telephoning or writing the contact person listed below under ADDRESSES. The SDEIS and all supporting technical documentation may be reviewed on the project Web site at http://www.nwcproject.com. Reading copies of the SDEIS are available at the locations listed under SUPPLEMENTARY INFORMATION.

DATES: The public review period will begin on September 17, 2010, and conclude on November 3, 2010. Written comments on the alternatives and impacts to be considered must be received by GDOT by November 3, 2010. Two public hearings to receive comments on the SDEIS will be held in Woodstock, GA on October 21, 2010, and Marietta, GA on October 26, 2010.

ADDRESSES: Written comments on the SDEIS should be addressed to Mr. Darryl VanMeter, State Innovative Program Delivery Engineer, Georgia Department of Transportation, 600 West Peachtree Street, NW., One Georgia Center, 27th Floor, Atlanta, GA 30308. Requests for a copy of the SDEIS may be addressed to Mr. VanMeter at the address above. Please see SUPPLEMENTARY INFORMATION section for a listing of the available documents and formats in which they may be obtained. Copies of the Draft EIS are also available for public inspection and review. See SUPPLEMENTARY INFORMATION section for locations.

FOR FURTHER INFORMATION CONTACT: To request copies of the SDEIS or for additional information, contact: Mr. Darryl VanMeter, State Innovative Program Delivery Engineer, 600 West Peachtree Street, NW., One Georgia Center, 27th Floor, Atlanta, GA 30308.

SUPPLEMENTARY INFORMATION: Hearing Dates and Locations: Tuesday, October 21, 2010: Woodstock High School Cafeteria, Woodstock, GA (4 p.m.-7 p.m.), 2010 Towne Lake Hills South Drive, Woodstock, GA 30189 and Tuesday, October 26, 2010: Doubletree Hotel, Marietta Ballroom, 2055 South Park Place, Marietta, GA 30339.

Copies of the SDEIS are available in hard copy format for public inspection at: Georgia Department of Transportation, Office of Environmental Services, 600 West Peachtree Street, NW., Atlanta, GA 30308;

Georgia Department of Transportation District Six Office—500 Joe Frank Harris Parkway, Cartersville, GA 30120;

Georgia Department of Transportation District Seven—Cobb Area Engineer's Office, 1269 Kennestone Circle, Marietta, Georgia 30066;

Central Library, Cobb County Public Library System, 266 Roswell Street, Marietta, Georgia 30060;

Central Library, Atlanta-Fulton Public Library System, One Margaret Mitchell Square, Atlanta, Georgia 30303; and

Library Headquarters/R.T. Jones Memorial Library, Sequoyah Regional Library System, 116 Brown Industrial Parkway, Canton, Georgia 30114.

Background: The previous Alternatives Analysis (AA)/DEIS for the proposed improvements on the I-75 and I-575 corridors was published in May 2007 and three public hearings were held. The proposed alternatives for the DEIS included truck only lanes and a Bus Rapid Transit (BRT) system with five BRT Stations. Comments from the public, agencies, local businesses and the trucking industry indicated the desire for an approach that does not include truck only lanes or a BRT system and focuses on a more cost effective solution with a smaller footprint and fewer impacts. This SDEIS provides a detailed evaluation of such an approach. The project corridor lies within Cobb and Cherokee Counties, Georgia. This SDEIS includes a re-examination of the purpose and need, alternatives under consideration, travel demand, affected environment, environmental consequences, and mitigation measures as a result of the improvements under consideration. One Build alternative and the No-Build alternative were considered for improvements to the I-75 and I-575 corridors. The FHWA was the lead agency for the preparation of the SDEIS. The FHWA and GDOT invite interested individuals, organizations and Federal, State, and local agencies to comment on the evaluated alternatives and associated social, economic, or environmental impacts related to the alternatives.

Issued on: September 7, 2010.
Rodney N. Barry,
Division Administrator, Federal Highway Administration, Atlanta, Georgia.

[FR Doc. 2010-22958 Filed 9-15-10; 8:45 am]

BILLING CODE M